DEPARTMENT OF HEALTH AND HUMAN SERVICES

Centers for Disease Control and Prevention

Board of Scientific Counselors, National Center for Injury Prevention and Control, (BSC, NCIPC)

In accordance with Section 10(a)(2) of the Federal Advisory Committee Act (Pub. L.92-463), the Centers for Disease Control and Prevention (CDC) announces, the following meeting of the aforementioned committee:

Time and Date: 9:00 a.m.-12:00 p.m., July 29, 2014 (Closed).

Place: Teleconference.

Status: The meeting as designated above will be closed to the public in accordance with provisions set forth in Section 552b(c)(4) and (6), Title 5 U.S.C., and the Determination of the Director, Management Analysis and Services Office, CDC pursuant to Public Law 92-463.

Purpose: The Board of Scientific Counselors makes recommendations regarding policies, strategies, objectives, and priorities; and reviews progress toward injury prevention goals and provides evidence in injury prevention-related research and programs. The Board also provides advice on the appropriate balance of intramural and extramural research, the structure, progress, and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters for Discussion: The Board of Scientific Counselors, National Center for Injury Prevention and Control (BSC, NCIPC) will meet to conduct a Secondary Peer Review of extramural research grant applications received in response to five (5) Funding Opportunity Announcements (FOAs) “Research to Prevent Prescription Drug Overdoses”, FOA CE14-002; “Motor Vehicle Injury Prevention: Evaluation of Increased Nighttime Enforcement of Seatbelts Uses”, FOA CE14-003; “Research on Integration of Injury Prevention in Health Systems”, FOA CE14-004; “Evaluating Promising Strategies to Build the Evidence Base for Sexual Violence Prevention”, FOA CE14-005; and “Research Grants for Preventing Violence and Violence-Related Injury”, FOA CE14-006. Applications will be assessed for applicability to the Center's mission and programmatic balance. Recommendations from the secondary review will be voted upon and the applications will be forwarded to the Acting Center Director for consideration for funding support.

Contact Person for More Information: Gwendolyn H. Cattledge, Ph.D., M.S.E.H., Deputy Associate Director for Science, NCIPC, CDC, 4770 Buford Highway NE., Mailstop F-63, Atlanta, GA 30341, Telephone (770) 488-1430.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-16206 Filed 7-10-14; 8:45 am]

BILLING CODE 4163-18-P